DEPARTMENT OF ENERGY

Federal Energy Regulatory Commission

[Docket No. CP01-388-001]

Transcontinental Gas Pipe Line Corporation; Notice of Amendment

September 28, 2001.

Take notice that on September 24, 2001, Transcontinental Gas Pipe Line Corporation (Transco), 2800 Post Oak Boulevard, P.O. Box 1396, Houston, Texas 77251-1396, filed an amendment to its pending application in Docket No. CP01-388-000 for a certificate of public convenience and necessity authorizing its Momentum Expansion Project (Momentum), an incremental expansion of Transco's existing pipeline system to provide new firm transportation capacity to serve increased market demand in the Southeastern region of the United States by a proposed in-service date of May 1, 2003, all as more fully set forth in the amendment which is on file with the Commission and open to public inspection. Copies of this filing are on file with the Commission and are available for public inspection. This filing may also be viewed on the web at http://www.ferc.gov using the “RIMS” link, select “Docket#” and follow the instructions (call 202-208-2222 for assistance).

Transco states that it is filing the amendment to the Momentum application to redesign and downsize the project to reflect (i) the elimination of two shippers under the project, Athens Development Company, L.L.C. (85,000 dt/d), and Hartwell Development Company, L.L.C. (85,000 dt/d), who have exercised their rights to terminate their precedent agreements because they had not received all regulatory authorizations for construction of their power plants by August 1, 2001, as provided for in their precedent agreements, and (ii) the additional quantities subscribed under the project by the Municipal Gas Authority of Georgia (MGAG), as agent for the Cities of Buford and Winder, Georgia, respectively. Transco states that as a result of these changes in the firm transportation quantities under Momentum, Transco has eliminated certain pipeline loops and compression facilities from the project and shortened certain other loops. The shortened loops will be essentially within the “footprint” of the originally proposed loops, so there will be little environmental impact beyond the areas described in the application, and, in fact, the overall environmental impact of the project will be lessened because of the reduction in facilities under the project. Transco states that relocated loop terminals or tie-ins may take additional extra work space at a new location that was not contemplated under an original, longer loop, but the impact will be minor.

Transco states that the changes to the facilities originally proposed in the application are as follows:

1. The following compression facilities have been eliminated: (a) Installation of one new 15,000 horsepower compressor unit at Transco's existing Compressor Station No. 110, which is located in Randolph County, Alabama; (b) uprating of an existing 18,975 horsepower compressor unit (Unit No. 3) to 22,500 horsepower at Transco's existing Compressor Station No. 115, which is located in Coweta County, Georgia; and (c) installation of one new 15,000 horsepower compressor unit at Transco's existing Compressor Station No. 125, which is located in Walton County, Georgia. The compression facilities at Compressor Station Nos. 90, 105, 130 and 160 remain as originally proposed in the Application.

2. The following pipeline loops have been eliminated in their entirety: (a) 7.90 miles of 42-inch diameter pipeline loop from Mile Post 732.65 on Transco's mainline in Jones County, Mississippi to Mile Post 740.50 (the suction side of Compressor Station No. 80) in Jones County (the Seminary Loop); (b) 3.49 miles of 42-inch diameter pipeline loop from Mile Post 905.74 on Transco's mainline in Chilton County, Alabama to Mile Post 909.20 in Chilton County (the Richville Loop); and (c) 4.18 miles of 42-inch diameter pipeline loop from Mile Post 1,201.71 on Transco's mainline in Spartanburg County, South Carolina to Mile Post 1,205.81 (the suction side of Compressor Station No. 140) in Spartanburg County (the Greenville Loop).

3. The following pipeline loops have been shortened and are now proposed as follows: (a) 6.63 miles of 42-inch diameter pipeline loop from Mile Post 632.89 on Transco's mainline in Amite County, Mississippi to Mile Post 639.44 in Pike County, Mississippi (the Magnolia Loop); (b) 5.55 miles of 42-inch diameter pipeline loop from Mile Post 767.38 on Transco's mainline in Clarke County, Mississippi to Mile Post 772.80 in Clarke County (the Hale Loop); (c) 25.38 miles of 48-inch diameter pipeline loop from Mile Post 860.78 on Transco's mainline in Perry County, Alabama to Mile Post 886.12 in Autauga County, Alabama (the Jones Loop); and (d) 19.01 miles of 42-inch diameter pipeline loop from Mile Post 926.87 (the discharge side of Compressor Station No. 105) on Transco's mainline in Coosa County, Alabama to Mile Post 945.64 in Tallapoosa County, Alabama (the Kellyton Loop). The 7.51 miles of 42-inch diameter pipeline loop proposed from Mile Post 1,124.74 (the discharge side of Compressor Station No. 130) on Transco's mainline in Madison County, Georgia to Mile Post 1,132.23 in Elbert County, Georgia (the Bowman Loop) remains as filed in the application.

Transco also states that it is also correcting the location of the delivery point for one of the Momentum shippers, Cardinal FG.

Transco estimates that the proposed facilities, as amended, will cost approximately $197 million. Transco states that the initial recourse rates have been revised to reflect such revised cost estimate and the reduced billing determinants under the project.

Any questions regarding this project should be directed to Toi Anderson, P. O. Box 1396, Houston, Texas 77251, at (713) 215-4540. In addition, Transco has established a toll-free telephone number (1-866-241-1787) so that parties can call with questions about the Momentum project.

Transco states that it still requests that the Commission issue a preliminary determination on the non-environmental aspects of its proposal by December 1, 2001 and a final order granting the authorizations requested in the application by April 15, 2002.

There are two ways to become involved in the Commission's review of this project. First, any person wishing to obtain legal status by becoming a party to the proceedings for this project should, on or before October 19, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the amended application for a formal hearing before an Administrative Law Judge, the Commission will issue another notice describing that process. At the end of the Commission's review process, a final Commission order approving or denying a certificate will be issued.

Linwood A. Watson, Jr.,
Acting Secretary.

[FR Doc. 01-24889 Filed 10-3-01; 8:45 am]

BILLING CODE 6717-01-P